DEPARTMENT OF COMMERCE

International Trade Administration

[C-570-199]

Temporary Steel Fencing From the People's Republic of China: Postponement of Preliminary Determination of Countervailing Duty Investigation

AGENCY: Enforcement and Compliance, International Trade Administration, Department of Commerce.

DATES: Applicable March 24, 2025.

FOR FURTHER INFORMATION CONTACT: Dana Mermelstein, AD/CVD Operations, Office VI, Enforcement and Compliance, International Trade Administration, U.S. Department of Commerce, 1401 Constitution Avenue NW, Washington, DC 20230; telephone: (202) 481-1391.

SUPPLEMENTARY INFORMATION:

Background

On February 4, 2025, the U.S. Department of Commerce (Commerce) initiated a countervailing duty (CVD) investigation on imports of temporary steel fencing from the People's Republic of China (China).¹ The preliminary determination is due no later than April 10, 2025.

¹ See Temporary Steel Fencing from the People's Republic of China: Initiation of Countervailing Duty Investigation, 90 FR 9311 (February 11, 2025).

Postponement of the Preliminary Determination

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce imitated the investigation if: (A) the petitioner makes a timely request for a postponement; or (B) Commerce concludes that the parties concerned are cooperation, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On March 4, 2025, the petitioner ² submitted a timely request that Commerce postpone the preliminary determination in this investigation.³ The petitioner stated that it requested postponement to extend the deadline for the preliminary determination because of the complexity of the issues and number of subsidy programs under investigation.⁴

² The petitioner is ZND US Inc.

³ See Petitioner's Letter, “Temporary Steel Fencing from the People's Republic of China: Request to Extend the Preliminary Determination,” dated March 4, 2025.

⁴ Id.

In accordance with 19 CFR 351.205(e), the petitioner submitted its request for postponement of the preliminary determination in this investigation 25 days or more before the scheduled date of the preliminary determination and stated the reasons for its request. For the reasons stated above, and because there are no compelling reasons to deny the request, in accordance with section 703(c)(1)(A) of the Act, Commerce is postponing the deadline for the preliminary determination to no later than 130 days after the date on which this investigation was initiated, i.e., June 16, 2025.⁵ Pursuant to section 705(a)(1) of the Act and 19 CFR 351.210(b)(1), the deadline for the final determination of this investigation will continue to be 75 days after the date of the preliminary determination.

⁵ Postponing the deadline to 130 days after the date of initiation would place the deadline on Saturday, June 14, 2025. Commerce practice dictates that where a deadline falls on a weekend or Federal holiday, the appropriate deadline is the next business day. See Notice of Clarification: Application of “Next Business Day” Rule for Administrative Determination Deadlines Pursuant to the Tariff Act of 1930, As Amended, 70 FR 24533 (May 10, 2005).

Notification to Interested Parties

This notice is issued and published pursuant to section 703(c)(2) of the Act and 19 CFR 351.205(f)(1).

Dated: March 14, 2025.
Christopher Abbott,
Deputy Assistant Secretary for Policy and Negotiations, performing the non-exclusive functions and duties of the Assistant Secretary for Enforcement and Compliance.

[FR Doc. 2025-04916 Filed 3-21-25; 8:45 am]

BILLING CODE 3510-DS-P